FEDERAL COMMUNICATIONS COMMISSION

47 CFR Part 2

[GN Docket No. 13-185; FCC 14-31]

Commercial Operations in the 1695-1710 MHz, 1755-1780 MHz, and 2155-2180 MHz Bands

AGENCY: Federal Communications Commission.

ACTION: Final rules; announcement of effective date.

SUMMARY: In this document, the Federal Communications Commission (Commission) announces the effective date to the amendment regarding Fixed and Mobile allocations for the 2025-2110 MHz band to the Federal Table of Frequency Allocations. This document is consistent with the Commission's Report and Order, Commercial Operations in the 1695-1710 MHz, 1755-1780 MHz, and 2155-2180 MHz Bands, stating that it would publish a document in the Federal Register announcing the effective date of this amendment.

DATES: The amendment to 47 CFR 2.106 published at 79 FR 32366, 32407 (Jun. 4, 2014) is effective May 12, 2015.

FOR FURTHER INFORMATION CONTACT: Ronald Repasi, Office of Engineering and Technology, at (202) 418-0768 or Ronald.Repasi@fcc.gov or Peter Daronco, Broadband Division, Wireless Telecommunications Bureau, at (202) 418-7235 or Peter.Daronco@fcc.gov.

SUPPLEMENTARY INFORMATION: In the Report and Order, FCC 14-31, 79 FR 32366 (Jun. 4, 2014) (correcting amendments at 79 FR 59138 (Oct. 1, 2014) the Commission adopted an amendment to 47 CFR 2.106 adding Fixed and Mobile allocations for the 2025-2110 MHz band to the Federal Table of Frequency Allocations. The FCC determined that this rule change would not take effect until the FCC announces the effective date in the Federal Register, which was dependent upon: (1) The auction for 1755-1780 MHz being able to close under the requirements of 47 U.S.C. 309(j)(16)(B) (Commission shall not conclude any auction of eligible frequencies if total cash proceeds attributable to such spectrum are less than 110 percent of the total estimated Federal relocation or sharing costs); and (2) satisfaction of a joint certification requirement in section 1062(b)(1)(B) of the National Defense Authorization Act for Fiscal Year 2000. See Report and Order, 79 FR 32366, 32295-96, 32403 paragraphs 209, 213, 257 (Jun. 4, 2014).

On January 30, 2015, the Commission announced the closing of the AWS-3 auction (Auction 97), noting that the net total winning bids for licenses in the paired 1755/2155-80 MHz band exceeded the reserve price for the band set to satisfy the statutory 110 percent provision noted above. See Auction of Advanced Wireless Service (AWS-3) Licenses Closes, Winning Bidders Announced for Auction 97, Public Notice, 30 FCC Rcd 630 (WTB 2015). On May 4, 2015, the National Telecommunications and Information Administration (NTIA) filed a letter enclosing copies of identical letters dated January 16, 2015, from the Secretary of Commerce, the Secretary of Defense and the Chairman of the Joint Chiefs of Staff to leaders of the Senate and House Committees on Armed Services; the Senate Committee on Commerce, Science, and Transportation; and the House Committee on Energy and Commerce, jointly certifying that the 2025-2110 MHz band and other alternative frequencies specified in the letters provide comparable technical characteristics to restore essential military capability that will be lost as a result of the DoD surrendering use of the 1755-1780 MHz band. See GN Docket No. 13-185, Letter to Marlene H. Dortch, Secretary, FCC, from Kathy D. Smith, Chief Counsel, NTIA (dated May 4, 2015) (available online at http://apps.fcc.gov/ecfs/comment/view?id=60001030820). Now that the two conditions have been satisfied, the Commission is publishing a document in the Federal Register announcing the effective date of the amendment to 47 CFR 2.106 (adopted in FCC 14-31) adding Fixed and Mobile allocations for the 2025-2110 MHz band to the Federal Table of Frequency Allocations.

Federal Communications Commission.
Marlene H. Dortch,
Secretary.

[FR Doc. 2015-11352 Filed 5-11-15; 8:45 am]

BILLING CODE 6712-01-P